DEPARTMENT OF COMMERCE

National Oceanic and Atmospheric Administration

RIN 0648-XB150

International Whaling Commission; 64th Annual Meeting; Announcement of Public Meetings

AGENCY: National Marine Fisheries Service (NMFS), National Oceanic and Atmospheric Administration (NOAA), Commerce.

ACTION: Notice of public meeting.

SUMMARY: This notice announces the date, time, and location of the public meeting being held prior to the 64th annual International Whaling Commission (IWC) meeting.

DATES: The public meeting will be held June 5, 2012, at 2 p.m.

ADDRESSES: The meeting will be held in the NOAA Science Center Room, 1301 East-West Highway, Silver Spring, MD 20910.

FOR FURTHER INFORMATION CONTACT: Melissa Andersen, 301-427-8385.

SUPPLEMENTARY INFORMATION: The Secretary of Commerce is responsible for discharging the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Department of the Interior, the Marine Mammal Commission, and other U.S. Government agencies.

A draft agenda for the annual IWC meeting should be posted on the IWC Secretariat's Web site at http://www.iwcoffice.org by late May.

NOAA will a hold public meeting to discuss the tentative U.S. positions for the upcoming IWC meeting. Because the meeting will address U.S. positions, the substance of the meeting must be kept confidential. Any U.S. citizen with an identifiable interest in U.S. whale conservation policy may participate, but NOAA reserves the authority to inquire about the interests of any person who appears at the meeting and to determine the appropriateness of that person's participation. In particular, persons who represent foreign interests may not attend. These stringent measures are necessary to protect the confidentiality of U.S. negotiating positions.

The June 5, 2012, meeting will be held in the NOAA Science Center Room, 1301 East-West Highway, Silver Spring, MD 20910. Photo identification is required to enter the building.

Special Accommodations

The meeting is physically accessible to people with disabilities. Requests for sign language interpretation or other auxiliary aids should be directed to Melissa Andersen, Melissa.Andersen@noaa.gov or 301-427-8385, by May 23, 2012.

Dated: April 24, 2012.
Rebecca J. Lent,
Director, Office of International Affairs, National Marine Fisheries Service.

[FR Doc. 2012-10374 Filed 4-27-12; 8:45 am]

BILLING CODE 3510-22-P